DEPARTMENT OF TRANSPORTATION

Federal Transit Administration

[FTA Docket No. FTA-2005-21811]

Agency Information Collection Activity Under OMB Review

AGENCY: Federal Transit Administration, DOT.

ACTION: Notice of request for comments.

SUMMARY: In accordance with the Paperwork Reduction Act of 1995 (44 U.S.C. 3501 et seq.), this notice announces that the Information Collection Request (ICR) abstracted below has been forwarded to the Office of Management and Budget (OMB) for approval. The Federal Register Notice with a 60-day comment period soliciting comments was published on April 11, 2005.

DATES: Comments must be submitted before August 11, 2005. A comment to OMB is most effective if OMB receives it within 30 days of publication.

FOR FURTHER INFORMATION CONTACT: Sylvia L. Marion, Office of Administration, Office of Management Planning, (202) 366-6680.

SUPPLEMENTARY INFORMATION: Title: Customer Service Surveys (OMB Number: 2132-0559).

Abstract: Executive Order 12862, “Setting Customer Service Standards,” requires FTA to identify its customers and determine what they think about FTA's service. The surveys covered in this request for a blanket clearance will provide FTA with a means to gather data directly from its customers. The information obtained from the surveys will be used to assess the kind and quality of services customers want and their level of satisfaction with existing services. The surveys will be limited to data collections that solicit voluntary opinions and will not involve information that is required by regulations.

Estimated Total Annual Burden: 706 hours.

ADDRESSES: All written comments must refer to the docket number that appears at the top of this document and be submitted to the Office of Information and Regulatory Affairs, Office of Management and Budget, 725—17th Street, NW., Washington, DC 20503, Attention: FTA Desk Officer.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued: July 7, 2005.
Ann M. Linnertz,
Deputy Associate Administrator for Administration.

[FR Doc. 05-13646 Filed 7-11-05; 8:45 am]

BILLING CODE 4910-57-P